DEPARTMENT OF DEFENSE

GENERAL SERVICES ADMINISTRATION

NATIONAL AERONAUTICS AND SPACE ADMINISTRATION

48 CFR Parts 18, 19, and 52

[FAC 2005-50; Item X; Docket 2011-0078; Sequence 1]

Federal Acquisition Regulation; Technical Amendments

AGENCIES: Department of Defense (DoD), General Services Administration (GSA), and National Aeronautics and Space Administration (NASA).

ACTION: Final rule.

SUMMARY: This document makes amendments to the Federal Acquisition Regulations in order to make editorial changes.

DATES: Effective Date: March 16, 2011.

FOR FURTHER INFORMATION CONTACT: The Regulatory Secretariat, 1275 First Street, NE., 7th Floor, Washington, DC 20417, (202) 501-4755, for information pertaining to status or publication schedules. Please cite FAC 2005-50, Technical Amendments.

SUPPLEMENTARY INFORMATION: In order to update certain elements in 48 CFR parts 18, 19, and 52, this document makes editorial changes to Federal Acquisition Regulations.

List of Subjects in 48 CFR Parts 18, 19, and 52

Government procurement.

Dated: March 4, 2011.
Millisa Gary,
Acting Director, Office of Governmentwide Acquisition Policy.

Therefore, DoD, GSA, and NASA amend 48 CFR parts 18, 19, and 52 as set forth below:

1. The authority citation for 48 CFR parts 18, 19, and 52 continues to read as follows:

Authority: 40 U.S.C. 121(c); 10 U.S.C. chapter 137; and 42 U.S.C. 2473(c).

PART 18—EMERGENCY ACQUISITIONS

18.204 [Amended]

2. Amend section 18.204 in paragraph (b) by removing “http://www.whitehouse.gov/omb/procurement/guides/emergency_acquisitions_guide.pdf” and adding “http://www.whitehouse.gov/sites/default/files/omb/assets/procurement_guides/emergency_acquisitions_guide.pdf” in its place.

PART 19—SMALL BUSINESS PROGRAMS

19.201 [Amended]

3. Amend section 19.201 in paragraph (b) by removing from the last sentence “http://www.arnet.gov/References/sdbadjustments.htm” and adding “https://www.acquisition.gov/References/sdbadjustments.htm” in its place.

PART 52—SOLICITATION PROVISIONS AND CONTRACT CLAUSES

4. Amend section 52.212-3 by—

a. Revising the date of the provision;

b. Removing from paragraph (c)(8)(ii) “(c)(9)(i)” and adding “(c)(8)(i)” in its place;

c. Removing from paragraph (c)(9)(ii) “(c)(10)(i)” and adding “(c)(9)(i)” in its place;

d. In Alternate I, revising the alternate date, introductory text, and first paragraph; and

e. In Alternate II, removing from the introductory text “(c)(9)(iii)” and adding “(c)(8)(iii)” in its place.

The revised text reads as follows:

52.212-3 Offeror Representations and Certifications—Commercial Items.

* * * * *

Offeror Representations and Certifications—Commercial Items (Mar 2011)

* * * * *

Alternate I * * *

As prescribed in 12.301(b)(2), add the following paragraph (c)(10) to the basic provision:

(10) (Complete if the offeror has represented itself as disadvantaged in paragraph (c)(4) or (c)(8) of this provision.)

* * * * *

5. Amend section 52.212-5 by revising the date of the clause; removing from paragraph (b)(17) “Apr 2008)” and adding “(Dec 2010)” in its place; redesignating paragraphs (b)(27) through (b)(45) as (b)(28) through (b)(46), respectively; and adding a new paragraph (b)(27).

The revised and added text reads as follows:

52.212-5 Contract Terms and Conditions Required To Implement Statutes or Executive Orders—Commercial Items.

* * * * *

Contract Terms and Conditions Required To Implement Statutes or Executive Orders—Commercial Items (MAR 2011)

(b) * * *

(27) 52.222-37, Employment Reports on Veterans (Sep 2010) (38 U.S.C. 4212).

* * * * *

[FR Doc. 2011-5561 Filed 3-15-11; 8:45 am]

BILLING CODE 6820-EP-P